NUCLEAR REGULATORY COMMISSION

[Docket No. 50-458]

Entergy Operations, Inc.; Notice of Withdrawal of Application for Amendment to Facility Operating License

The U.S. Nuclear Regulatory Commission (the Commission) has granted the request of Entergy Operations, Inc. (the licensee), to withdraw its October 25, 1999, application, as supplemented by letter dated January 12, 2000, for a proposed amendment to Facility Operating License No. NPF-47 for the River Bend Station, Unit 1, located in West Feliciana Parish, Louisiana.

The proposed amendment would have revised the reactor vessel material surveillance program capsule schedule, defined in Technical Requirements Manual, Table 3.4.11-1, as required by Title 10 of the Code of Federal Regulations Part 50, Appendix H, Section III. The licensee had originally requested that the schedule to remove its first surveillance capsule be changed from 10.4 effective full power years (EFPY) to 13.4 EFPY. The January 12, 2000, letter subsequently requested that the capsule removal schedule be 11.5 EFPY.

The Commission had previously issued a Notice of Consideration of Issuance of Amendment, which was published in the Federal Register on December 15, 1999 (64 FR 70083). However, by letter dated March 2, 2000, the licensee withdrew the proposed change.

For further details with respect to this action, see the application for amendment dated October 25, 1999, supplemental letter dated January 12, 2000, and the licensee's letter dated March 2, 2000, which withdrew the application for license amendment. The above documents are available for public inspection at the Commission's Public Document Room, the Gelman Building, 2120 L Street, NW., Washington, DC, and accessible electronically through the ADAMS Public Electronic Reading Room link at the NRC Web site (http://www.nrc.gov).

Dated at Rockville, Maryland, this 23rd day of March 2000.
For the Nuclear Regulatory Commission.
Robert J. Fretz,
Project Manager, Section 1, Project Directorate IV & Decommissioning, Division of Licensing Project Management, Office of Nuclear Reactor Regulation.

[FR Doc. 00-7712 Filed 3-28-00; 8:45 am]

BILLING CODE 7590-01-P